DEPARTMENT OF HOMELAND SECURITY

Federal Emergency Management Agency

44 CFR Part 67

[Docket ID FEMA-2010-0003; Internal Agency Docket No. FEMA-B-1167]

Proposed Flood Elevation Determinations

Correction

In proposed rule document 2010-31151 beginning on page 77598 in the issue of Monday, December 13, 2010, make the following correction:

§ 67.4 [Corrected]

On page 77599, in § 67.4, in the table St. Charles County, Missouri, and Incorporated Areas, the 12th and 13th entries are corrected to read as set forth below:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
St. Charles County, Missouri, and Incorporated Areas
* * * * * * *
Lake Sainte Louise | Entire shoreline within community | None | +546 | City of Lake St. Louis.
Little Dardenne Creek | At the confluence with Dardenne Creek | +553 | +554 | Unincorporated Areas of St. Charles County.
| Approximately 0.9 mile upstream of Morrison Lane | None | +719
* * * * * * *

[FR Doc. C1-2010-31151 Filed 2-3-11; 8:45 am]

BILLING CODE 1505-01-D